DEPARTMENT OF COMMERCE

International Trade Administration

[A-570-831]

Fresh Garlic From the People's Republic of China: Initiation of New Shipper Reviews

AGENCY: Import Administration, International Trade Administration, Department of Commerce.

SUMMARY: The Department of Commerce (the Department) has determined that three timely requests for a new shipper review of the antidumping duty order on fresh garlic from the People's Republic of China (PRC), meet the statutory and regulatory requirements for initiation.

DATES: Effective Date: July 7, 2010.

FOR FURTHER INFORMATION CONTACT: Scott Lindsay, AD/CVD Operations, Office 6, Import Administration, International Trade Administration, U.S. Department of Commerce, 14th Street and Constitution Avenue, NW., Washington, DC 20230; telephone: (202) 482-0780.

SUPPLEMENTARY INFORMATION:

Background

The notice announcing the antidumping duty order on fresh garlic from the PRC was published on November 16, 1994. See Antidumping Duty Order: Fresh Garlic from the People's Republic of China, 59 FR 59209 (November 16, 1994) (Order). On May 28, 2010, we received timely requests for a new shipper review from Shenzhen Bainong Co. Ltd. (Bainong), Yantai Jinyan Trading Co. Ltd. (Jinyan), and Jining Yifa Garlic Produce Co., Ltd. (Yifa) in accordance with 19 CFR 351.214(c) and 351.214(d)(2). Jinyan and Yifa have each certified that they are both the producer and exporter of all of the fresh garlic they exported to the United States, which is the basis for their requests for a new shipper review. Bainong has certified that it is the exporter of the fresh garlic it exported to the United States, while Mingkai Garlic Industry Co. Ltd. (Mingkai) is the producer of the fresh garlic exported by Bainong.

Pursuant to the requirements set forth in 19 CFR 351.214(b)(2), in their requests for a new shipper review, Bainong, Jinyan, and Yifa each certified that (1) they did not export fresh garlic to the United States during the period of investigation (POI); (2) since the initiation of the investigation, they have never been affiliated with any company that exported subject merchandise to the United States during the POI, including any exporter or producer not individually examined during the investigation; and (3) their export activities are not controlled by the central government of the PRC. In addition, Mingkai, the producer of the subject merchandise for Bainong, certified that it did not export the subject merchandise to the United States during the POI. In accordance with 19 CFR 351.214(b)(2)(iv), Bainong, Jinyan, and Yifa submitted documentation establishing the following: (1) The date on which each company first shipped fresh garlic for export to the United States and the date on which fresh garlic was first entered, or withdrawn from warehouse, for consumption; (2) the volume of the first shipment; and (3) the date of the first sale to an unaffiliated customer in the United States.

Periods of Review

In accordance with 19 CFR 351.214(g)(1)(i)(B), the period of review (POR) for new shipper reviews initiated in the month immediately following the semi-annual anniversary month will be the six-month period immediately preceding the semiannual anniversary month. Therefore, under this order, the POR is November 1, 2009 through April 30, 2010. The sales and entries into the United States of subject merchandise exported by Bainong and Yifa occurred during this six-month POR. Therefore, the POR for these new shippers is November 1, 2009 through April 30, 2010.

When the sale of the subject merchandise occurs within the POR specified by the Department's regulations but the entry occurs after the POR, the specified POR may be extended unless it would be likely to prevent the completion of the review within the time limits set by the Department's regulations. See 19 CFR 351.214(f)(2)(ii). Additionally, the preamble to the Department's regulations states that both the entry and the sale should occur during the POR, but that under “appropriate” circumstances the Department has the flexibility to extend the POR. See Antidumping Duties; Countervailing Duties; Final Rule, 62 FR 27296, 27319-27320 (May 19, 1997). In this instance, Jinyan's sale of subject merchandise was made during the POR specified by the Department's regulations but the shipment entered almost a month after the end of that POR. In its request for a new shipper review, Jinyan requested that the Department extend the POR for its NSR to capture its entry. The Department finds that extending the POR to capture this entry would not prevent the completion of the review within the time limits set by the Department's regulations. Therefore, the Department has extended the POR for Jinyan's new shipper review by one month, making the POR for Jinyan November 1, 2009 through May 31, 2010.

Initiation of New Shipper Reviews

Pursuant to section 751(a)(2)(B) of the Tariff Act of 1930, as amended (the Act) and 19 CFR 351.214(d)(1), we find that the requests submitted by Bainong, Jinyan, and Yifa meet the threshold requirements for initiation of a new shipper review for shipments of fresh garlic from the PRC. See Memoranda to the File through Barbara E. Tillman, Director, AD/CVD Operations, Office 6, Fresh Garlic from the People's Republic of China: Initiation of Antidumping New Shipper Review—Bainong, Fresh Garlic from the People's Republic of China: Initiation of Antidumping New Shipper Review—Jinyan, and Fresh Garlic from the People's Republic of China: Initiation of Antidumping New Shipper Review—Yifa, each dated concurrently with this notice. See 19 CFR 351.214(g)(1)(i)(A).

The Department will conduct these reviews according to the deadlines set forth in section 751(a)(2)(B)(iv) of the Act. It is the Department's usual practice, in cases involving non-market economies, to require that a company seeking to establish eligibility for an antidumping duty rate separate from the country-wide rate provide evidence of de jure and de facto absence of government control over the company's export activities. Accordingly, we will issue questionnaires to Bainong, Jinyan, and Yifa, which will include a separate rate section. The review will proceed if the response provides sufficient indication that Bainong, Jinyan, and Yifa are each not subject to either de jure or de facto government control with respect to the export of fresh garlic.

We will instruct U.S. Customs and Border Protection to allow, at the option of the importer, the posting, until the completion of the review, of a bond or security in lieu of a cash deposit for each entry of the subject merchandise from Bainong, Jinyan, and Yifa in accordance with section 751(a)(2)(B)(iii) of the Act and 19 CFR 351.214(e). Because Jinyan and Yifa each certified that it both produced and exported the subject merchandise, the sale of which is the basis for this new shipper review request, we will apply the bonding privilege to Jinyan and Yifa only for subject merchandise which Jinyan and Yifa each both produced and exported. Because Bainong certified that its subject merchandise was produced by Mingkai, we will apply the bonding privilege to Bainong only for subject merchandise produced by Mingkai.

Interested parties requiring access to proprietary information in this new shipper review should submit applications for disclosure under administrative protective order in accordance with 19 CFR 351.305 and 351.306.

This initiation and notice are in accordance with section 751(a)(2)(B) of the Act and 19 CFR 351.214 and 351.221(c)(1)(i).

Dated: June 30, 2010.
John M. Andersen,
Acting Deputy Assistant Secretary for Antidumping and Countervailing Duty Operations.

[FR Doc. 2010-16506 Filed 7-6-10; 8:45 am]

BILLING CODE 3510-DS-P